DEPARTMENT OF TRANSPORTATION

National Highway Traffic Safety Administration

[Docket No. NHTSA-2004-19257; Notice 1]

The Spares Company, Receipt of Petition for Decision of Inconsequential Noncompliance

The Spares Company (Spares) has determined that air brake hose assemblies it manufactured from 2000 to 2004 do not comply with S7.2.3 of 49 CFR 571.120, Federal Motor Vehicle Safety Standard (FMVSS) No. 106, “Brake Hoses.” Spares has filed an appropriate report pursuant to 49 CFR Part 573, “Defect and Noncompliance Reports.”

Pursuant to 49 U.S.C. 30118(d) and 30120(h), Spares has petitioned for an exemption from the notification and remedy requirements of 49 U.S.C. Chapter 301 on the basis that this noncompliance is inconsequential to motor vehicle safety.

This notice of receipt of Spares' petition is published under 49 U.S.C. 30118 and 30120 and does not represent any agency decision or other exercise of judgment concerning the merits of the petition.

A total of approximately 17,000 aftermarket air brake hose assemblies produced between November 2000 and June 2004 are affected. S7.2.3 of FMVSS No. 106 requires that “each air brake hose assembly made with end fittings that are attached by crimping or swaging * * * shall be labeled by means of a band around the brake hose assembly * * * [with the DOT symbol and the name of the manufacturer] or, at the option of the manufacturer, by means of labeling [of at least one end fitting which is etched, stamped or embossed with a designation that identifies the manufacturer].” The affected brake hoses do not have the manufacturer's label or a designation of the manufacturer as required by S7.2.3.

Spares manufactured these brake hose assemblies from its incorporation date in November 2000 until June 2004, when production was stopped because Spares discovered the noncompliance.

Spares believes that the noncompliance is inconsequential to motor vehicle safety and that no corrective action is warranted. Spares explains that the units are assembled by Spares using Goodyear-labeled hoses and RB Royal-labeled fittings. Spares states that the “brake hose assemblies meet all functional performance requirements of the standard for the hose, the fittings, and the assembly and therefore will perform exactly as intended.”

Spares further states that there have been no complaints from any distributor or consumer concerning the functioning of the brake hose assemblies. Spares has begun notifying all of its distributors of the labeling defect and will provide a band for each noncomplying hose currently remaining in the distributors' possession.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: November 8, 2004.

(Authority 49 U.S.C. 30118, 30120: delegations of authority at CFR 1.50 and 501.8)
Issued on: October 5, 2004.
Kenneth N. Weinstein,
Associate Administrator for Enforcement.

[FR Doc. 04-22722 Filed 10-7-04; 8:45 am]

BILLING CODE 4910-59-P